DEPARTMENT OF HOMELAND SECURITY

Coast Guard

33 CFR Part 117

[Docket No. USCG-2015-1023]

Drawbridge Operation Regulation; Atlantic Intracoastal Waterway, Albemarle and Chesapeake Canal, Chesapeake (Great Bridge), VA

AGENCY: Coast Guard, DHS.

ACTION: Notice of deviation from drawbridge regulations.

SUMMARY: The Coast Guard has issued a temporary deviation from the operating schedule that governs the S168 Bridge (Battlefield Boulevard) across the Atlantic Intracoastal Waterway, Albemarle and Chesapeake Canal, mile 12.0, at Chesapeake (Great Bridge), VA. This deviation allows the bridge to remain in the closed-to-navigation position to facilitate the annual Chesapeake Christmas Parade.

DATES: This deviation is effective from 4 p.m. on December 5, 2015 until 10 p.m. on December 5, 2015.

ADDRESSES: The docket for this deviation, [USCG-2015-1023], is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard; telephone (757) 398-6222, email Hal.R.Pitts@uscg.mil.

SUPPLEMENTARY INFORMATION: The City of Chesapeake, VA, who owns and operates the S168 Bridge, has requested a temporary deviation from the current operating regulations to facilitate the annual Chesapeake Christmas Parade. The bridge is a double bascule draw bridge and has a vertical clearance in the closed position of 8 feet above mean high water.

The current operating schedule is set out in 33 CFR 117.997(g). Under this temporary deviation, the bridge will remain in the closed-to-navigation position from 4 p.m. to 6 p.m. and from 8 p.m. to 10 p.m. on December 5, 2015. The Atlantic Intracoastal Waterway, Albemarle and Chesapeake Canal is used by a variety of vessels including U.S. government vessels, small commercial vessels, recreational vessels and tug and barge traffic. The Coast Guard has carefully coordinated the restrictions with commercial and recreational waterway users.

Vessels able to pass through the bridge in the closed position may do so at anytime. The bridge will be able to open for emergencies and the Atlantic Ocean is the alternate route for vessels unable to pass through the bridge in the closed position. The Coast Guard will also inform the users of the waterways through our Local and Broadcast Notice to Mariners of the change in operating schedule for the bridge so that vessels can arrange their transits to minimize any impacts caused by this temporary deviation.

In accordance with 33 CFR 117.35(e), the drawbridge must return to its regular operating schedule immediately at the end of the effective period of this temporary deviation. This deviation from the operating regulations is authorized under 33 CFR 117.35.

Dated: November 16, 2015.
Hal R. Pitts,
Bridge Program Manager, Fifth Coast Guard District.

[FR Doc. 2015-29677 Filed 11-19-15; 8:45 am]

BILLING CODE 9110-04-P